FEDERAL DEPOSIT INSURANCE CORPORATION

Sunshine Act Meeting

Pursuant to the provisions of the “Government in the Sunshine Act” (5 U.S.C. 552b), notice is hereby given that the Federal Deposit Insurance Corporation's Board of Directors met in open session at 2:00 p.m. on Thursday, May 31, 2018, to consider the following matters:

Summary Agenda: Disposition of minutes of previous Board of Directors' Meetings.

Memorandum and resolution re: Final Rule: Securities Transaction Settlement Cycle.

Summary reports, status reports, and reports of actions taken pursuant to authority delegated by the Board of Directors, and reports of the Office of Inspector General.

Discussion Agenda: Memorandum and resolution re: Notice of Proposed Rulemaking: Revisions to Prohibitions and Restrictions on Proprietary Trading and Certain Interests in, and Relationships with, Hedge Funds and Private Equity Funds.

In calling the meeting, the Board determined, on motion of Director Mick Mulvaney (Acting Director, Consumer Financial Protection Bureau), seconded by Director Joseph Otting (Comptroller of the Currency), and concurred in by Chairman Martin J. Gruenberg, that Corporation business required its consideration of the matters on less than seven days' notice to the public; and that no earlier notice of the meeting than that previously provided on May 25, 2018, was practicable.

The meeting was held in the Board Room located on the sixth floor of the FDIC Building located at 550 17th Street NW, Washington DC.

Dated: May 31, 2018.
Federal Deposit Insurance Corporation.
Robert E. Feldman,
Executive Secretary.

[FR Doc. 2018-12090 Filed 5-31-18; 4:15 pm]

BILLING CODE 6714-01-P